ENVIRONMENTAL PROTECTION AGENCY

40 CFR Part 52

[MO 195-1195a; FRL-7559-9]

Approval and Promulgation of Implementation Plans and Operating Permits Program; State of Missouri

Correction

In rule document 03-23586 beginning on page 54366 in the issue of Wednesday, September 17, 2003, make the following correction:

§52.1320 [Corrected]

On page 54369, in §52.1320(c), in the table, under the column “EPA approval date,” “September 12, 2003” should read “September 17, 2003.”

[FR Doc. C3-23586 Filed 11-5-03; 8:45 am]

BILLING CODE 1505-01-D

SECURITIES AND EXCHANGE COMMISSION

[Release No. 34-48662; File No. SR-PCX-2003-41]

Self-Regulatory Organizations; Notice of Filing and Order Granting Accelerated Approval of Proposed Rule Change and Amendment No. 1 Thereto by the Pacific Exchange, Inc. To Trade, Either by Listing or Pursuant to Unlisted Trading Privileges, Fixed Income Exchange Traded Funds

October 20, 2003.

Correction

In notice document 03-27094 beginning on page 61535 in the issue of Tuesday, October 28, 2003 make the following correction:

On page 61541, in the second column, in the 19th and 20th lines, “[Insert date 21 days from date of publication].” should read “ November 18, 2003”.

[FR Doc. C3-27094 Filed 11-5-03; 8:45 am]

BILLING CODE 1505-01-D

DEPARTMENT OF TRANSPORTATION

Federal Aviation Administration

Noise Exposure Map Notice for Indianapolis International Airport, Indianapolis, IN

Correction

In notice document 03-27275 beginning on page 61713 in the issue of Wednesday, October 29, 2003, make the following correction:

On page 61713, in the second column, under the heading supplementary information, in the second paragraph, in the seventh line, “depend” should read, “depict”.

[FR Doc. C3-27275 Filed 11-5-03; 8:45 am]

BILLING CODE 1505-01-D